DEPARTMENT OF DEFENSE

Office of the Secretary

Judicial Proceedings Since Fiscal Year 2012 Amendments Panel (Judicial Proceedings Panel); Notice of Federal Advisory Committee Meeting

AGENCY: Department of Defense.

ACTION: Notice of meeting.

SUMMARY: The Department of Defense is publishing this notice to announce the following Federal Advisory Committee meeting of the Judicial Proceedings Since Fiscal Year 2012 Amendments Panel (“the Judicial Proceedings Panel” or “the Panel”). The meeting is open to the public.

DATES: A meeting of the Judicial Proceedings Panel will be held on Friday, February 24, 2017. The public session will begin at 9:00 a.m. and end at 4:00 p.m.

ADDRESSES: Holiday Inn Arlington at Ballston, Grand Ballroom, 4610 N. Fairfax Drive, Arlington, Virginia 22203.

FOR FURTHER INFORMATION CONTACT: Ms. Julie Carson, Judicial Proceedings Panel, One Liberty Center, Suite 150, 875 N. Randolph Street, Arlington, Virginia 22203. Email: whs.pentagon.em. mbx.judicial-panel@mail.mil. Phone: (703) 693-3849. Web site: http://jpp.whs.mil.

SUPPLEMENTARY INFORMATION: This public meeting is being held under the provisions of the Federal Advisory Committee Act of 1972 (5 U.S.C., Appendix, as amended), the Government in the Sunshine Act of 1976 (5 U.S.C. 552b, as amended), and 41 CFR 102-3.150.

Purpose of the Meeting: In section 576(a)(2) of the National Defense Authorization Act for Fiscal Year 2013 (Pub. L. 112-239), as amended, Congress tasked the Judicial Proceedings Panel to conduct an independent review and assessment of judicial proceedings conducted under the Uniform Code of Military Justice (UCMJ) involving adult sexual assault and related offenses since the amendments made to the UCMJ by section 541 of the National Defense Authorization Act for Fiscal Year 2012 (Pub. L. 112-81; 125 Stat. 1404), for the purpose of developing recommendations for improvements to such proceedings. At this meeting, the Panel will receive a presentation from the JPP Subcommittee on the Subcommittee's Sexual Assault Investigations in the Military Report. The Panel will also deliberate on its Military Defense Counsel Resources and Experience in Sexual Assault Cases Report, its Victims' Appellate Rights Report, the Joint Service Committee on Military Justice's proposed amendment to Rule for Court-Martial 1103A, and the dissents of Mr. Victor Stone, JPP member.

Agenda:

8:30 a.m.-9:00 a.m., Administrative Work (41 CFR 102-3.160, not subject to notice & open meeting requirements)

9:00 a.m.-9:15 a.m., Welcome and Introduction

9:15 a.m.-11:45 a.m., Subcommittee Presentation and Panel Deliberations on Sexual Assault Investigations in the Military Report—Ms. Lisa Friel, Special Counsel for Investigations for the National Football League, JPP Subcommittee Member

11:45 a.m.-12:45 p.m., Lunch

12:45 p.m.-1:45 p.m., Panel Deliberations on Military Defense Counsel Resources and Experience in Sexual Assault Cases Report

1:45 p.m.-3:45 p.m., Panel Deliberations on Victims' Appellate Rights Report; Joint Service Committee on Military Justice's Proposed Amendment to Rule for Court-Martial 1103A; and the Dissents of Mr. Victor Stone, JPP Member

3:45 p.m.-4:00 p.m., Public Comment

4:00 p.m., Meeting Adjourned

Availability of Materials for the Meeting: A copy of the February 24, 2017, public meeting agenda and any updates or changes to the agenda, including the location and individual speakers not identified at the time of this notice, as well as other materials provided to Panel members for use at the public meeting, may be obtained at the meeting or from the Panel's Web site at http://jpp.whs.mil.

Public's Accessibility to the Meeting: Pursuant to 5 U.S.C. 552b and 41 CFR 102-3.140 through 102-3.165, and the availability of space, this meeting is open to the public. Seating is limited and is on a first-come basis. In the event the Office of Personnel Management closes the government due to inclement weather or any other reason, please consult the Web site for any changes to public meeting dates or time.

Special Accommodations: Individuals requiring special accommodations to access the public meeting should contact the Judicial Proceedings Panel at whs.pentagon.em.mbx.judicial-panel@mail.mil at least five (5) business days prior to the meeting so that appropriate arrangements can be made.

Procedures for Providing Public Comments: Pursuant to 41 CFR 102-3.140 and section 10(a)(3) of the Federal Advisory Committee Act of 1972, the public or interested organizations may submit written comments to the Panel about its mission and topics pertaining to this public session. Written comments must be received by the JPP at least five (5) business days prior to the meeting date so that they may be made available to the Judicial Proceedings Panel for their consideration prior to the meeting. Written comments should be submitted via email to the Judicial Proceedings Panel at whs.pentagon.em.mbx.judicial-panel@mail.mil in the following formats: Adobe Acrobat or Microsoft Word. Please note that since the Judicial Proceedings Panel operates under the provisions of the Federal Advisory Committee Act, as amended, all written comments will be treated as public documents and will be made available for public inspection. If members of the public are interested in making an oral statement pertaining to the agenda for the public meeting, a written statement must be submitted as described in this notice along with a request to provide an oral statement. After reviewing the written comments and the oral statement, the Chair and the Designated Federal Official will determine who will be permitted to make an oral presentation of their issue during the public comment portion of this meeting. This determination is at the sole discretion of the Chair and Designated Federal Official, will depend on the time available and relevance to the Panel's activities for that meeting, and will be on a first-come basis. When approved in advance, oral presentations by members of the public will be permitted from 3:45 p.m. to 4:00 p.m. on February 24, 2017, in front of the Panel members.

Committee's Designated Federal Official: The Panel's Designated Federal Official is Ms. Maria Fried, Department of Defense, Office of the General Counsel, 1600 Defense Pentagon, Room 3B747, Washington, DC 20301-1600.

Dated: February 6, 2017.
Aaron Siegel,
Alternate OSD Federal Register Liaison Officer, Department of Defense.

[FR Doc. 2017-02700 Filed 2-8-17; 8:45 am]

BILLING CODE 5001-06-P